DEPARTMENT OF TRANSPORTATION

National Highway Traffic Safety Administration

[Docket No. NHTSA 2002-13272]

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on September 9, 2002 (67 FR 57270-57271).

DATES: Comments must be submitted on or before January 22, 2003.

FOR FURTHER INFORMATION CONTACT: George Person at the National Highway Traffic Safety Administration, Office of Defects Investigation, 202-366-5210, 400 Seventh Street, SW., Room 5326, Washington, DC 20590.

SUPPLEMENTARY INFORMATION: Agency: National Highway Traffic Safety Administration.

Title: Defect and Noncompliance Reports, Part 573.

OMB Number: 2127-0004.

Type of Request: Renewal.

Abstract: NHTSA's statute at 49 U.S.C. sections 30112 and 30116 through 30121 requires manufacturers of motor vehicles and motor vehicle equipment to recall and remedy their products that do not comply with applicable Federal motor vehicle safety standards or that contain a defect related to motor vehicle safety. The manufacturer must notify NHTSA, owners, purchasers, and dealers of such defects and noncompliances.

To implement this authority, in 1978 NHTSA promulgated 49 CFR part 573, Defect and Noncompliance Reports, (with amendments through 2002). This regulation sets out the following requirements, among others:

(1) Manufacturers are to provide specific information in reports that must be filed with NHTSA within five working days of a decision that a safety-related defect or noncompliance exists;

(2) Manufacturers are to submit quarterly reports to NHTSA on the progress of recall campaigns for six consecutive calendar quarters beginning with the quarter in which the campaign was initiated; and

(3) Manufacturers are to retain records of owners or purchasers of their products that have been involved in a recall campaign.

Affected Public: All manufacturers of motor vehicles and motor vehicle equipment are required to comply with these requirements whenever a decision has been made that their products contain a defect or noncompliance. There have been more than 700 such reports provided annually to NHTSA by slightly more than 200 manufacturers in recent years, however, NHTSA estimates that about 26,000 manufacturers could be affected by this requirement. Additionally, all manufacturers must maintain records of the names and addresses of the owners of the products affected by the recalls.

Estimated Total Annual Burden: The annual burden is estimated to be 15,844 hours.

Address: Send comments, within 30 days, to the Office of Information and Regulatory Affairs, Office of Management and Budget, 725 17th Street, NW., Washington, DC 20503, Attention NHTSA Desk Officer.

Comments are invited on: Whether the proposed collection of information is necessary for the proper performance of the functions of the Agency, including whether the information will have practical utility; the accuracy of the Agency's estimate of the burden of the proposed information collection; ways to enhance the quality, utility and clarity of the information to be collected; and ways to minimize the burden of the collection of information on respondents, including the use of automated collection techniques or other forms of information technology.

A comment to OMB is most effective if OMB receives it within 30 days of publication.

Issued on: December 17, 2002.
Kenneth N. Weinstein,
Associate Administrator for Enforcement.

[FR Doc. 02-32184 Filed 12-20-02; 8:45 am]

BILLING CODE 4910-59-P